DEPARTMENT OF LABOR

Employment and Training Administration

Solicitation for Grant Applications (SGA) Senior Community Service Employment Program Grants for PY 2003—Amendment

AGENCY: Employment and Training Administration (ETA), Labor.

ACTION: Notice; amendments to the SGA.

SUMMARY: The Employment and Training Administration published a document in the November 8, 2002 Federal Register (67 FR 68178), concerning the availability of grant funds for the national grants portion of the Senior Community Service Employment Program (SCSEP). The document is being amended to reflect several technical changes as well as provide some clarifications.

The following amendments apply to this SGA:

FOR FURTHER INFORMATION CONTACT: Questions should be addressed to Lorraine Saunders, Division of Federal Assistance, phone (202) 693-3301 or Fax (202) 693-2879. (These are not toll free numbers). All inquiries should include the new SGA number (DFA-03-101), a contact name, fax number, and phone number.

I. G. Submission of Proposals

Electronic Applications. Due to the erratic mail delivery in the Washington, DC area, in addition to using the U.S. Postal Service or overnight delivery services, applicants have the option of submitting their applications via e-mail to SCSEPSolicitation@doleta.gov. E-mailed applications must be followed up with a hard copy of the SF-424 with original signature. Applications should follow the instructions in the original publication.

II. A. Eligible Applicants

(1) General National Grant Funds

Applications for general SCSEP national grant funds will be accepted from nonprofit organizations, including community- and faith-based organizations; Federal public agencies; and tribal organizations that can administer an effective program in accordance with section 502(b)(1) of the OAA, and which have a familiarity with the areas and populations to be served and have the capacity to administer multi-State programs.

Any eligible entity may apply for one or more locations within a State or among several States. An application that is for positions solely in one State will not be rejected for that reason, as long as it meets the other requirements of this SGA. Being “capable” of administering multi-State programs allows the Department to negotiate with successful applicants to ensure that contiguous locations that did not receive a proposal are served as described in the SGA. It also ensures that participants in locations that did not receive a proposal do not experience a disruption in services.

It is not the Department's intent to open the national grants portion of funds to the States, State agencies, or local governments. State grantees will continue to receive funds through the distribution of funding under the legislation.

III. A. Program Components

The Department also intends to hold informational conferences for prospective applicants for all interested entities that want to learn more about the program and the competition process. Locations and dates for these conferences are as follows:

Washington, DC—December 4, 2002

St. Louis, Missouri—December 10, 2002

San Francisco, California—December 12, 2002

As details become available, additional information on conferences may be obtained from the SCSEP Web site at http://wdsc.doleta.gov/seniors.

Signed at Washington, DC, this 26th day of November, 2002.
R. Lance Grubb,
Director, Office of Grants and Contracts Management.

[FR Doc. 02-30480 Filed 12-2-02; 8:45 am]

BILLING CODE 4510-30-P